DEPARTMENT OF JUSTICE

Notice of Lodging of Proposed Consent Decree Under the Clean Air Act

On September 30, 2024, the Department of Justice lodged a proposed Consent Decree with the United States District Court for the District of Utah in the lawsuit entitled United States and State of Utah v. Ovintiv USA Inc., Civil Action No. 2:24-cv-00723-CMR.

The United States and the State of Utah have filed a complaint concurrently with the proposed Consent Decree. The Complaint (ECF No. 1) alleges that Defendant Ovintiv violated requirements of Section 111 of the Clean Air Act, 42 U.S.C. 7411, and its implementing regulations at 40 CFR part 60, subparts OOOO and OOOOa; the Utah Air Conservation Act, Utah Code Ann. section 19-2-101 et seq., and its implementing regulations at Utah Administrative Code r. R307-101-1 et seq.; and approval orders issued pursuant to a permitting program in Utah's federally-approved State Implementation Plan, for unlawful emissions of volatile organic compounds (“VOCs”) from certain storage vessels and their associated vapor control systems that are or were part of Ovintiv's oil and natural gas production systems in the Uinta Basin. The Consent Decree will require Ovintiv to take specified actions at 139 of its facilities in Utah and pay a civil penalty of $5,500,000.00 and take pollution mitigation actions to reduce volatile organic compound emissions.

The publication of this notice opens a period for public comment on the Consent Decree. Comments should be addressed to the Assistant Attorney General, Environment and Natural Resources Division, and should refer to United States and State of Utah v. Ovintiv USA Inc., D.J. Ref. No. 90-5-2-1-12416. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Jason A. Dunn,
Assistant Section Chief, Environmental Enforcement Section, Environment and Natural Resources Division.

[FR Doc. 2024-23306 Filed 10-8-24; 8:45 am]

BILLING CODE 4410-15-P